DEPARTMENT OF COMMERCE

Economics and Statistics Administration

Census Advisory Committees

AGENCY: Economics and Statistics Administration, Department of Commerce.

ACTION: Notice of public meeting.

SUMMARY: Pursuant to the Federal Advisory Committee Act (Public Act 92-463, as amended by Pub. L. 94-409, Pub. L. 96-523, and Pub. L. 97-375), we are giving notice of a joint meeting involving the 2000 Census Advisory Committee (CAC), the CAC of Professional Associations, the CAC on the African American Populations, the CAC on the American Indian and Alaska Native Populations, the CAC on the Asian Population, the CAC on the Native Hawaiian and Other Pacific Islander Populations, and the CAC on the Hispanic Population. This meeting will be primarily an informational meeting focusing on Census 2000 operations and activities.

DATES: On Friday, April 14, 2000, the meeting will begin at 8:45 a.m. and adjourn at approximately 5 p.m.

ADDRESSES: The meeting will take place at the Sheraton Crystal City Hotel, 1800 Jefferson Davis Highway, Arlington, VA.

FOR FURTHER INFORMATION CONTACT: Maxine Anderson-Brown, Committee Liaison Officer, Department of Commerce, U.S. Census Bureau, Room 1647, Federal Building 3, Washington, DC 20233, telephone: 301-457-2308.

SUPPLEMENTARY INFORMATION: The CACs on the African American Population, the American Indian and Alaska Native Populations, the Asian Population, the Native Hawaiian and Other Pacific Islander Populations, and the Hispanic Population are composed of nine members each, appointed by the Secretary of Commerce. The Committees provide an organized and continuing channel of communication between the communities they represent and the U.S. Census Bureau on its effort to reduce the differential undercount for Census 2000 and on ways that census data can be disseminated to maximum usefulness to their communities and other users.

The CAC of Professional Associations is composed of thirty-six members appointed by the Presidents of the American Economic Association, the American Statistical Association, the Population Association of America, and the Chairman of the Board of the American Marketing Association. The Committee advises the Director, U.S. Census Bureau, on the full range of U.S. Census Bureau programs and activities in relation to its areas of expertise.

The 2000 Census Advisory Committee is composed of a Chair, Vice Chair, and up to forty member organizations. There are also sixteen ex-officio members, all appointed by the Secretary of Commerce. The Advisory Committee considers the goals of Census 2000 and user needs for information provided by that census. The Committee provides an outside user perspective about how operational planning and implementation methods proposed for Census 2000 will realize those goals and satisfy those needs. The Advisory Committee considers all aspects of the conduct of the 2000 Census of Population and Housing and makes recommendations to the Secretary of Commerce for improving that census.

A brief period will be set aside at the meeting for public comment. However, individuals with extensive statements for the record must submit them in writing to the Commerce Department official named above at least three working days prior to the meeting.

The meeting is physically accessible to people with disabilities. Requests for sign language interpretation or other auxiliary aids should be directed to the U.S. Census Bureau Committee Liaison Officer on 301-457-2308, TDD 301-457-2540.

Dated: March 8, 2000.
Robert J. Shapiro,
Under Secretary for Economic Affairs, Economics and Statistics Administration.

[FR Doc. 00-6444 Filed 3-15-00; 8:45 am]

BILLING CODE 3510-07-M